DEPARTMENT OF AGRICULTURE

Animal and Plant Health Inspection Service

9 CFR Part 94

[Docket No. APHIS-2009-0017]

RIN 0579-AD41

Importation of Beef From a Region in Brazil

AGENCY: Animal and Plant Health Inspection Service, USDA.

ACTION: Proposed rule.

SUMMARY: We are proposing to amend the regulations governing the importation of certain animals, meat, and other animal products by allowing, under certain conditions, the importation of fresh (chilled or frozen) beef from a region in Brazil (the States of Bahia, Distrito Federal, Espirito Santo, Goias, Mato Grosso, Mato Grosso do Sul, Minas Gerais, Parana, Rio Grande do Sul, Rio de Janeiro, Rondonia, Sao Paulo, Sergipe, and Tocantins). Based on the evidence in a recent risk assessment, we have determined that fresh (chilled or frozen) beef can be safely imported from those Brazilian States provided certain conditions are met. This action would provide for the importation of beef from the designated region in Brazil into the United States while continuing to protect the United States against the introduction of foot-and-mouth disease.

DATES: We will consider all comments that we receive on or before February 21, 2014.

ADDRESSES: You may submit comments by either of the following methods:

• Federal eRulemaking Portal: Go to http://www.regulations.gov/#!documentDetail;D=APHIS-2009-0017-0001.

• Postal Mail/Commercial Delivery: Send your comment to Docket No. APHIS-2009-0017, Regulatory Analysis and Development, PPD, APHIS, Station 3A-03.8, 4700 River Road Unit 118, Riverdale, MD 20737-1238.

Supporting documents and any comments we receive on this docket may be viewed at http://www.regulations.gov/#!docketDetail;D=APHIS-2009-0017 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Silvia Kreindel, Senior Staff Veterinarian, Regional Evaluation Services Staff, National Center for Import and Export, VS, APHIS, 4700 River Road Unit 38, Riverdale, MD 20737-1231; (301) 851-3313.

SUPPLEMENTARY INFORMATION:

Background

The regulations in 9 CFR part 94 (referred to below as the regulations) prohibit or restrict the importation of certain animals and animal products into the United States to prevent the introduction of various animal diseases, including rinderpest, foot-and-mouth disease (FMD), African swine fever, classical swine fever, and swine vesicular disease. These are dangerous and destructive communicable diseases of ruminants and swine. Section 94.1 of the regulations contains criteria for recognition by the Animal and Plant Health Inspection Service (APHIS) of foreign regions as free of rinderpest or free of both rinderpest and FMD. Section 94.11 restricts the importation of ruminants and swine and their meat and certain other products from regions that are declared free of rinderpest and FMD but that nonetheless present a disease risk because of the regions' proximity to or trading relationships with regions affected with rinderpest or FMD. Regions APHIS has declared free of FMD and/or rinderpest, and regions declared free of FMD and rinderpest that are subject to the restrictions in § 94.11, are listed on the APHIS Web site at http://www.aphis.usda.gov/import_export/animals/animal_disease_status.shtml.

APHIS considers rinderpest or FMD to exist in all regions of the world not listed as free of those diseases on the Web site. On November 16, 2010, we published in the Federal Register (75 FR 69851-69857, Docket No. APHIS-2009-0034) a final rule that, among other things, recognized the Brazilian State of Santa Catarina as free of rinderpest and FMD. APHIS does not consider the rest of Brazil to be free of FMD because Brazil vaccinates against FMD.

With few exceptions, the regulations prohibit the importation of fresh (chilled or frozen) meat of ruminants or swine that originates in or transits a region where FMD is considered to exist. One such exception is beef and ovine meat ¹ from Uruguay. The regulations allow the importation of fresh beef and ovine meat from Uruguay into the United States provided that the following additional conditions have been met:

¹ The provisions allowing the importation of ovine meat from Uruguay were added in a final rule published in the Federal Register (78 FR 68327-68331) on November 14, 2013, and effective on November 29, 2013.

• The meat is beef or ovine meat from animals born, raised, and slaughtered in Uruguay.

• Foot-and-mouth disease has not been diagnosed in Uruguay within the previous 12 months.

• The meat comes from bovines or sheep that originated from premises where FMD had not been present during the lifetime of any bovines or sheep slaughtered for the export of beef and ovine meat to the United States.

• The meat comes from bovines or sheep that were moved directly from the premises of origin to the slaughtering establishment without any contact with other animals.

• The meat comes from bovines or sheep that received ante-mortem and post-mortem veterinary inspections, paying particular attention to the head and feet, at the slaughtering establishment, with no evidence found of vesicular disease.

• The meat consists only of bovine or ovine parts that are, by standard practice, part of the animal's carcass that is placed in a chiller for maturation after slaughter. The bovine and ovine parts that may not be imported include all parts of the head, feet, hump, hooves, and internal organs.

• All bone and visually identifiable blood clots and lymphoid tissue have been removed from the meat.

• The meat has not been in contact with meat from regions other than those listed in the regulations as free of rinderpest and FMD.

• The meat comes from carcasses that were allowed to maturate at 40 to 50 °F (4 to 10 °C) for a minimum of 24 hours after slaughter and that reached a pH of below 6.0 the loin muscle at the end of the maturation period. Measurements for pH must be taken at the middle of both longissimus dorsi muscles. Any carcass in which the pH does not reach less than 6.0 may be allowed to maturate an additional 24 hours and be retested, and, if the carcass still has not reached a pH of less than 6.0 after 48 hours, the meat from the carcass may not be exported to the United States.

• An authorized veterinary official of the Government of Uruguay certifies on the foreign meat inspection certificate that the above conditions have been met.

• The establishment in which the bovines and sheep are slaughtered allows periodic on-site evaluation and subsequent inspection of its facilities, records, and operations by an APHIS representative.

In response to a request from the Government of Brazil that we allow fresh (chilled or frozen) beef to be imported into the United States from a region within that country, we conducted a risk analysis of that region, which can be viewed on the Internet on the Regulations.gov Web site or in our reading room.² For the risk analysis, we evaluated information provided by Brazil's Ministry of Agriculture, Livestock and Food Supply (MAPA) in accordance with § 92.2 regarding the country's FMD status, reviewed published scientific literature, and conducted five site visits to the proposed exporting region. We concluded that Brazil has infrastructure and emergency response capabilities adequate to effectively contain and eradicate FMD in the event of an outbreak and to comply with U.S. import restrictions on products from affected areas. Based on the evidence documented in our recent risk assessment, we believe that fresh (chilled or frozen) beef can be safely imported from the region in Brazil composed of the States of Bahia, Distrito Federal, Espirito Santo, Goias, Mato Grosso, Mato Grosso do Sul, Minas Gerais, Parana, Rio Grande do Sul, Rio de Janeiro, Rondonia, Sao Paulo, Sergipe, and Tocantins, provided certain conditions are met. Accordingly, we are proposing to amend the regulations in § 94.22 to allow the importation of fresh beef from that region in Brazil. Under this proposed rule, fresh beef from that region of Brazil would be subject to the same import conditions under § 94.22 as beef and ovine meat from Uruguay.

² Instructions on accessing Regulations.gov and information on the location and hours of the reading room may be found at the beginning of this document under ADDRESSES. You may also request paper copies of the risk analysis by calling or writing the person listed under FOR FURTHER INFORMATION CONTACT.

In this proposed rule, we are also giving notice that we would add Brazil to the list of regions that we recognize as free of rinderpest, which can be viewed at http://www.aphis.usda.gov/import_export/animals/animal_import/animal_imports_rinderpest.shtml. Historically, rinderpest virus has never become established in North America, Central America, the Caribbean Islands, or South America. A brief incursion into Brazil occurred in 1921 but was limited in scope and quickly eradicated.

Miscellaneous

Our proposed addition of the exporting region of Brazil to the regulations in § 94.22 necessitates a few minor editorial changes to § 94.1, where, currently, reference is made to the importation of fresh beef and ovine meat from Uruguay under § 94.22.

Risk Analysis

Drawing on data submitted by the Government of Brazil and observations from our site visits to the region under consideration, we have conducted a risk analysis of the animal health status of that region relative to FMD. Our risk analysis was conducted according to the eight factors identified in § 92.2, “Application for recognition of the animal health status of a region”: The scope of the evaluation being requested, veterinary control and oversight, disease history and vaccination practices, livestock demographics and traceability, epidemiological separation from potential sources of infection, surveillance, diagnostic laboratory capabilities, and emergency preparedness and response.³

³ Prior to 2012, § 92.2(b) listed 11 factors. In 2012, APHIS consolidated the 11 factors into 8 in order to simplify the regulations and facilitate the application process. Since the evaluation of the proposed exporting region of Brazil began before the consolidation, however, the risk assessment follows the 11-factor format. The topics addressed by the 11 factors are encapsulated in the 8. Appendix II of the risk assessment describes the similarities between the 8 and 11 factors. Observations and information collected during the site visits were considered in the risk assessment as well.

A summary evaluation of each factor is discussed below. Based on our analysis of these factors, we have determined that fresh (chilled or frozen), maturated, deboned beef can be safely imported into the United States from this region in Brazil.

Scope of the Evaluation Being Requested

We conducted our risk analysis in response to an official request from Brazil that APHIS allow the importation of fresh (chilled or frozen), maturated, deboned beef into the United States from a designated region consisting of 14 Brazilian States. The region includes the States of Bahia, Distrito Federal, Espírito Santo, Goiás, Mato Grosso, Mato Grosso do Sul, Minas Gerais, Paraná, Rio Grande do Sul, Rio de Janeiro, Rondônia, São Paulo, Sergipe, and Tocantins.

Given the history of FMD in Brazil and the fact that Brazil vaccinates its cattle population in most States against FMD, APHIS conducted this risk analysis to evaluate the potential for FMD introduction and establishment through importation of beef from Brazil. Data and background information were obtained from Brazilian animal health officials. Much of the supporting information for this analysis consists of records obtained from MAPA. In addition, APHIS conducted five site visits to Brazil, in 2002, 2003, 2006, 2008, and 2013, to verify and complement the information provided by Brazil.

Veterinary Control and Oversight

APHIS reviewed Brazil's FMD control and eradication program during its site visits in 2002, 2003, 2006, 2008, and 2013, and concluded that the program is effective at the local and national levels. We determined that MAPA could detect disease quickly, limit its spread, and report it promptly. This capacity was in evidence in the FMD outbreaks in 2005 and 2006, when the cases were quickly identified, disease was contained, and international authorities were notified in a timely manner.

APHIS considers that MAPA has sufficient legal authority to carry out official control, eradication, and quarantine activities. MAPA has a system of official veterinarians and support staff in place for carrying out field programs and for import controls and animal quarantine. Field activities are coordinated through the State Agricultural Secretariat offices. Review of veterinary infrastructure with MAPA officials demonstrated an infrastructure adequate for rapid detection of FMD and for carrying out surveillance and eradication programs. Field offices appeared to be adequately staffed for the regions covered. The technical infrastructure is adequate, and advanced technologies are utilized in conducting several animal health programs, including the FMD program. Import controls are sufficient to protect international borders at principal crossing points, and sufficient controls exist to prevent the introduction of international waste into the country. Field personnel appeared to be adequately trained in or to have had some experience with clinical signs of FMD. It is expected that they would suspect FMD if they were to see clinical signs of it. With regard to indemnity procedures, we concluded that sufficient funds may be available to compensate owners for depopulated animals and that indemnity provisions can be extended to exposed animals. Generally, we were favorably impressed with the census information, coverage of premises in the export region, the recordkeeping for individual premises, the control of vaccination, and the movement controls documented at the local level.

Disease History and Vaccination Practices

Outbreaks of FMD occurred in the Brazilian States of Rio Grande Do Sul in 2000-2001 and in Paraná and Matto Grosso do Sul in 2005-2006. In the course of evaluating the potential disease risk posed by importation of fresh beef from the export region into the United States, we did not detect any evidence to suggest that active outbreaks of FMD exist in the proposed exporting region.

Vaccination of cattle and buffalo is mandatory in the proposed export region. Other species are not vaccinated on a regular basis in Brazil. Vaccination coverage was reported to range between 76 and 99.9 percent in the export region.

The vaccine used is an inactivated, trivalent, oil-based vaccine. All FMD vaccines produced or used in Brazil must be tested for quality and safety by the official service. Quality control tests of each batch of the vaccine are conducted in two laboratories, located in Recife (Pernambuco State) and Porto Alegre, and strictly follow international standards as set by the World Organization for Animal Health (OIE).

We concluded that Brazil conducts its FMD vaccine production programs appropriately and in accordance with international standards. There is a system of controls to ensure compliance with vaccination calendars through matching vaccination records to movement permits and census data, and through field inspections. There is also a system in place for levying fines for noncompliance.

Livestock Demographics and Traceability

Agriculture in Brazil supports the economy, and agricultural commodities constitute 37 percent of total exports. The domestic animal population consists of 183,000,000 cattle, 1,100,000 buffaloes, 14,800,000 sheep, 12,100,000 goats, and 33,000,000 pigs. Of these amounts, 84 percent of the cattle population and the premises that hold them are located within the proposed export area.

We did not identify significant risk pathways that would cause us to consider commercial operations in the proposed export region as a likely source for introducing FMD into the United States. The larger commercial operations are likely to be the source of beef exports from the export region. APHIS considers the beef industry in the export region to be well-organized and committed to the production of quality product and to preventing FMD outbreaks.

Brazil has an efficient and effective traceability system, which includes a voluntary national identification system for cattle and buffalo being exported to different countries, including the European Union (EU). A unique 17-digit identification code is given to each animal and is registered in a national database managed by MAPA. The use of this national identification system enhances Brazil's ability to certify the origin of animals entering the export channels.

The auction system in the country is well-organized and tightly controlled by the official service. In addition, there is no evidence to suggest that major movements of animals into export channels occur through the auction system.

Adequate controls and inspection measures exist at slaughter facilities in Brazil. Ante-mortem and post-mortem inspections are carried out satisfactorily. APHIS evaluated pH controls, maturation, and deboning procedures at three plants in the proposed export zone that export to the EU and elsewhere. Every carcass destined for the EU is tested to ensure that the pH is not greater than 5.9, which is the EU requirement. If greater, the carcass is diverted to local consumption. APHIS examined maturation records and verified actual rejected and approved seals. APHIS considers pH testing and calibration of pH meters to be critical mitigation measures in assessing the risk of importing the FMD virus in beef from Brazil.

The biosecurity measures applied at the facilities APHIS visited were adequate, and there is a high level of awareness of and compliance with these measures. In addition, processing facilities are integrated within these operations and are under adequate official control and inspection.

We concluded that Brazil has adequate control of inspection activities in slaughter facilities and can certify compliance with our import requirements. A comparable system for control of commercial shipments also exists and is considered adequate to control import and export of beef products.

Epidemiological Separation From Potential Sources of Infection

Adjacent regions that were considered in our risk analysis were an affected zone in Brazil adjacent to the export region and the neighboring countries of Paraguay, Uruguay, Bolivia, and Argentina. The most recent outbreak in the adjacent region of Brazil occurred in June 2004 in the State of Pará, Monte Alegre district. APHIS does not consider the countries of South America to be FMD-free, with the exception of Chile. Outbreaks have occurred in Argentina, Uruguay, and Paraguay, all countries that had been classified by the OIE as “free without vaccination” or “free with vaccination” prior to the outbreaks. FMD has not been eradicated from Colombia, Bolivia, Ecuador, Venezuela, and Peru.

There is a history of introduction of disease into Brazil from neighboring countries (2000-2002). According to Brazilian officials, illegal movement of animals from neighboring countries, as well as mechanical transmission of the virus resulted in introducing the disease into Brazil. In 2000 and 2001, Brazil became vulnerable to the introduction of the disease due its presence in Argentina. Brazil successfully instituted emergency measures in 2002 when an outbreak occurred in Paraguay near its border with Brazil. Similar actions in 2003 appear to have resulted in preventing the introduction of the disease from Argentina and Paraguay and in 2011 from Paraguay. APHIS concluded that as long as FMD is endemic in the overall region in South America, there is a risk of reintroduction from adjacent areas into the proposed exporting region.

Domestic movement controls within Brazil are stringent. MAPA requires that all cattle owners identify their animals with a unique brand. Sheep and swine are identified by a brand in the ear. There is a system of permits in place to control animal movement, which works well at the local level. Movement controls are linked to vaccination records, and vaccination coverage in the export region evaluated by APHIS is relatively high, as noted above.

There is good cooperation between Brazilian Federal agencies and their international counterparts at land border crossings. At some border locations, authorities from Brazil and the neighboring countries were present, which increased efficiency and effectiveness in controlling movement of animals and animal products.

Movement controls at international land checkpoints appear to be adequate. Movement control measures and biosecurity at airports and seaports were impressive.

APHIS attempts to target the riskiest border crossings (and other areas) during site visits as an example of a type of “maximized risk scenario,” in order to address similar, but theoretically lower, risks in the remainder of the export region. APHIS assumes that if the riskiest pathways are sufficiently mitigated, the overall spectrum of risk issues should be acceptable. Using this assumption and visiting the areas of highest risk in the export region, APHIS concluded that movement control measures for live animals are relatively robust at both domestic and international checkpoints.

Surveillance

The animal health service in Brazil has a surveillance system that covers all national territory. All official service field staff, community participants, and private sector veterinarians are trained and required to look for signs of vesicular diseases. If FMD is suspected, it must be immediately reported to the local unit or to the veterinary authority that would notify the local unit. Cattle and buffaloes are inspected every 6 months by vaccinators and official veterinarians, when the bovines gather in corrals for vaccination. Local veterinary unit personnel carry out special visits to certain herds that are classified as “risky” by the official service. Animals are individually inspected by personnel from the official service for signs of vesicular disease before slaughtering. Other body parts, including the tongue and feet, are examined during post-mortem inspection. All animals coming into fairs, auctions, or exhibitions are clinically inspected by the official veterinarians. The clinical inspection of animals in transit is carried out at checkpoints and border control points by official personnel. The conditions under which animals move are based on the sanitary status of the State of origin or the country sharing borders with the export region.

Brazil has a two-phase surveillance system that effectively uses active and passive surveillance. Phase I relies on active surveillance to document freedom from disease. Active surveillance is carried out by means of targeted sero-epidemiological surveys in specific “high-risk” areas within the zone that the Brazilian Department of Animal Health considers FMD-free. The surveys aim to prove that the zone remains free of viral activity. Serological testing is also conducted whenever there is a suspicion of disease. Phase II begins once freedom from infection has been established. The main goals in this phase are to prevent the reintroduction of the disease, maintain good sanitary conditions, and provide technical grounds to demonstrate the continual absence of disease and viral activity in the zone. Passive surveillance is the primary type employed in Phase II, although active surveillance is also used. Passive surveillance activities include observations made during: (1) Animal movement control activities and trade of animal products, (2) farm inspections, (3) slaughterhouse inspection, and (4) inspections during livestock fairs. Data on the above activities are collected annually. Passive surveillance takes advantage of the community structure in Brazil and relies heavily on the participation of the community. Brazilian animal health officials have carefully and methodically thought about each component of their surveillance system, and their two-stage cluster sampling design is appropriate, efficient, scientifically valid, and simple to implement. All technical aspects of that design were addressed properly.

Observations made during recent site visits to Brazil led APHIS to conclude that the Brazilians were particularly effective in their FMD educational campaigns and that the country's FMD eradication strategy and surveillance practices have been fully communicated, understood, and embraced by all animal health officials in the country. This was evident by the high degree of consistency in implementation and execution of the program at every local veterinary unit visited. In addition, the serological surveillance plan, updated in August 2010, appears well designed and executed.

Diagnostic Laboratory Capabilities

MAPA has four laboratories under its direct supervision that perform diagnostic tests for FMD and other vesicular diseases. These laboratories are located in the States of Rio Grande do Sul, Pará, Minas Gerais, and Pernambuco. In addition, the Pan-American Foot-and-Mouth Disease Center Laboratory (PANAFTOSA) in Rio de Janeiro is the reference laboratory for FMD in Brazil and neighboring countries. At the time of our 2013 site visit, only the laboratory in Pará processed infectious material. PANAFTOSA's laboratory work involving any infectious material is performed at the Pará laboratory.

Based on laboratory site visits conducted in 2002, 2008, and 2013, we concluded that Brazil has the diagnostic capability to adequately test samples for the presence of the FMD virus. The laboratories in Rio Grande do Sul, Pará, Minas Gerais, and Pernambuco have adequate quality control activities; adequate laboratory equipment, which is routinely monitored and calibrated; sufficient staff; and an effective and efficient recordkeeping system for storage and retrieval of data. The tests used to investigate evidence of viral activity are consistent with OIE guidelines. The staff members at the facilities visited in 2002, 2008, and 2013 were well-trained and motivated. Samples are turned around quickly.

Emergency Preparedness and Response

Brazil's efficient and effective traceability system is an important component of its emergency response capacity. As noted above, Brazil uses a voluntary national identification system, which includes individual animal identification numbers, for cattle and buffalo that are destined for export. In addition, Brazil uses a mandatory identification system to track the entire animal population of the country by lot. That system proved to be extremely effective during the 2005-2006 FMD outbreaks in the traceback of all contacts.

Brazil relies heavily on community notification of FMD outbreaks, as that tends to be the most efficient way to locate disease. Once notification occurs, the Federal contingency plan for FMD is extensive and thorough, and a significant degree of necessary autonomy is built in at the State level.

APHIS concluded that adequate legal authority, funding, personnel, and resources exist at both the State and Federal levels to carry out emergency response measures. The emergency response is both rapid and effective, as shown following the FMD outbreaks in Rio Grande do Sul in 2000-2001 and Mato Grosso do Sul and Parana in 2005-2006.

The above findings are detailed in the risk analysis document summarized above. The risk analysis explains the factors that have led us to conclude that fresh (chilled or frozen) beef may be safely imported from a region of Brazil under the conditions enumerated above. It also establishes that Brazil has adequate veterinary infrastructures in place to prevent, control, and manage FMD and outbreaks. Therefore, we are proposing to amend § 94.22 to allow the importation of fresh beef from a region of Brazil under the conditions described above.

Executive Orders 12866 and 13563 and Regulatory Flexibility Act

This proposed rule has been determined to be significant for the purposes of Executive Order 12866 and, therefore, has been reviewed by the Office of Management and Budget.

We have prepared an economic analysis for this rule. The economic analysis provides a cost-benefit analysis, as required by Executive Orders 12866 and 13563, which direct agencies to assess all costs and benefits of available regulatory alternatives and, if regulation is necessary, to select regulatory approaches that maximize net benefits (including potential economic, environmental, public health and safety effects, and equity). Executive Order 13563 emphasizes the importance of quantifying both costs and benefits, of reducing costs, of harmonizing rules, and of promoting flexibility. The economic analysis also provides an initial regulatory flexibility analysis that examines the potential economic effects of this rule on small entities, as required by the Regulatory Flexibility Act. The economic analysis is summarized below. Copies of the full analysis are available by contacting the person listed under FOR FURTHER INFORMATION CONTACT or on the Regulations.gov Web site (see ADDRESSES above for instructions for accessing Regulations.gov).

Based on the information we have, there is no reason to conclude that adoption of this proposed rule would result in any significant economic effect on a substantial number of small entities. However, we do not currently have all of the data necessary for a comprehensive analysis of the effects of this proposed rule on small entities. Therefore, we are inviting comments on potential effects. In particular, we are interested in determining the number and kind of small entities that may incur benefits or costs from the implementation of this proposed rule.

This proposed rule would amend the regulations governing the importation of certain animals, meat, and other animal products by allowing, under certain conditions, the importation of fresh (chilled or frozen) beef from a region in Brazil composed of the States of Bahia, Distrito Federal, Espírito Santo, Goiás, Mato Grosso, Mato Grosso do Sul, Minas Gerais, Paraná, Rio Grande do Sul, Rio de Janeiro, Rondônia, São Paulo, Sergipe, and Tocantins.

Effects of the proposed rule are estimated using a partial equilibrium model of the U.S. agricultural sector. Economic impacts are estimated based on interactions among the grain, livestock, and livestock product sectors. Annual imports of fresh (chilled or frozen) beef from Brazil are expected to range between 20,000 and 65,000 metric tons (MT), with volumes averaging 40,000 MT. Quantity, price, and welfare changes are estimated for these three import scenarios. The results are presented as average annual effects for the 5-year period 2014-2018. The model indicates that about two-thirds of the beef imported from Brazil would displace beef that would otherwise be imported from other countries. Thus, the net increase in beef imports would correspond to about one-third of the quantity supplied by Brazil under each of the three scenarios.

The model shows that if the United States were to import 40,000 MT of beef from Brazil, total U.S. beef imports would increase by less than 1 percent. Due to the increase in supply, it is estimated that the wholesale price of beef, the retail price of beef, and the price of cattle (steers) would decline by 0.11 percent, 0.04 percent, and 0.14 percent, respectively. Changes in U.S. beef production, consumption, and exports in response to these very small price declines would be inconsequential: Beef production would decrease by 0.01 percent, beef consumption would increase by 0.06 percent, and beef exports would increase by 0.11 percent. The 20,000 MT and 65,000 MT import scenarios show similarly small quantity and price effects.

The fall in beef prices and resulting decline in U.S. production would translate into reduced returns for producers in the livestock and beef processing sectors. Under the 40,000 MT import scenario, cattle producers and beef processors are estimated to incur declines in welfare of 0.68 percent and 0.14 percent, respectively.

The shift by consumers to beef due to the price decline would cause downward pressure on the prices of pork and other meats. The largest of these market declines, though still very small, would be for swine and pork. It is estimated for the 40,000 MT import scenario that the welfare of swine producers and pork processors would decline by 0.02 percent and 0.01 percent, respectively.

The decline in beef prices because of imports from Brazil would benefit consumers. It is estimated for the 40,000 MT import scenario that the welfare of beef consumers would increase by 0.16 percent. Consumers of pork and other animal products would benefit negligibly.

The model indicates that, when the gains of beef consumers and the losses of producers are accounted for, the net welfare gain would be equivalent to about $185 million, whereas pork producer welfare losses would slightly outweigh pork consumer gains. For all modeled sectors, the net welfare change would be positive, with consumer gains of $354 million outweighing producer losses of $165 million.

Welfare effects for the 20,000 MT and 65,000 MT import scenarios are similar to those described. For all three scenarios, welfare gains are shown to be greater than welfare losses, with the net benefits increasing broadly in proportion to the quantity of beef imported from Brazil. The greater the volume of imports, the greater the welfare benefits would be for consumers and the greater the losses for producers.

While most of the establishments affected by this rule would be small entities, based on the results of this analysis, APHIS does not expect the impacts to be significant. APHIS welcomes information that the public may provide regarding potential economic effects of the proposed rule.

Executive Order 12988

This proposed rule has been reviewed under Executive Order 12988, Civil Justice Reform. If this proposed rule is adopted: (1) All State and local laws and regulations that are inconsistent with this rule will be preempted; (2) no retroactive effect will be given to this rule; and (3) administrative proceedings will not be required before parties may file suit in court challenging this rule.

National Environmental Policy Act

To provide the public with documentation of APHIS' review and analysis of any potential environmental impacts associated with the importation of fresh (chilled or frozen) beef from a region in Brazil, we have prepared an environmental assessment. The environmental assessment was prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

The environmental assessment may be viewed on the Regulations.gov Web site or in our reading room. (A link to Regulations.gov and information on the location and hours of the reading room are provided under the heading ADDRESSES at the beginning of this proposed rule.) In addition, copies may be obtained by calling or writing to the individual listed under FOR FURTHER INFORMATION CONTACT.

Paperwork Reduction Act

In accordance with section 3507(d) of the Paperwork Reduction Act of 1995 (44 U.S.C. 3501 et seq.), the information collection or recordkeeping requirements included in this proposed rule have been submitted for approval to the Office of Management and Budget (OMB). Please send written comments to the Office of Information and Regulatory Affairs, OMB, Attention: Desk Officer for APHIS, Washington, DC 20503. Please state that your comments refer to Docket No. APHIS-2009-0017. Please send a copy of your comments to: (1) Docket No. APHIS-2009-0017, Regulatory Analysis and Development, PPD, APHIS, Station 3A-03.8, 4700 River Road Unit 118, Riverdale, MD 20737-1238, and (2) Clearance Officer, OCIO, USDA, room 404-W, 14th Street and Independence Avenue SW., Washington, DC 20250. A comment to OMB is best assured of having its full effect if OMB receives it within 30 days of publication of this proposed rule.

Currently, APHIS allows imports of fresh (chilled or frozen) beef and ovine meat from Uruguay, provided that the meat is imported subject to conditions specified in 9 CFR 94.22. Under § 94.22, APHIS must collect information, prepared by an authorized certified official of the Government of Uruguay, certifying that specific conditions for importation have been met.

This proposed rule would allow the importation of fresh (chilled or frozen) beef from a region in Brazil (the States of Bahia, Distrito Federal, Espírito Santo, Goiás, Mato Grosso, Mato Grosso do Sul, Minas Gerais, Paraná, Rio Grande do Sul, Rio de Janeiro, Rondônia, São Paulo, Sergipe, and Tocantins) under the same conditions currently applied to Uruguay.

APHIS is asking OMB to approve its use of this information collection activity to facilitate its ability to ensure that beef products from Brazil can be imported safely into the United States.

We are soliciting comments from the public (as well as affected agencies) concerning our proposed information collection and recordkeeping requirements. These comments will help us:

(1) Evaluate whether the proposed information collection is necessary for the proper performance of our agency's functions, including whether the information will have practical utility;

(2) Evaluate the accuracy of our estimate of the burden of the proposed information collection, including the validity of the methodology and assumptions used;

(3) Enhance the quality, utility, and clarity of the information to be collected; and

(4) Minimize the burden of the information collection on those who are to respond (such as through the use of appropriate automated, electronic, mechanical, or other technological collection techniques or other forms of information technology; e.g., permitting electronic submission of responses).

Estimate of burden: Public reporting burden for this collection of information is estimated to average 1 hour per response.

Respondents: Authorized veterinary officials employed by the Government of Brazil.

Estimated annual number of respondents: 1,606.

Estimated annual number of responses per respondent: 1.

Estimated annual number of responses: 1,606.

Estimated total annual burden on respondents: 1,606 hours. (Due to averaging, the total annual burden hours may not equal the product of the annual number of responses multiplied by the reporting burden per response.)

Copies of this information collection can be obtained from Mrs. Celeste Sickles, APHIS' Information Collection Coordinator, at (301) 851-2908.

E-Government Act Compliance

The Animal and Plant Health Inspection Service is committed to compliance with the E-Government Act to promote the use of the Internet and other information technologies, to provide increased opportunities for citizen access to Government information and services, and for other purposes. For information pertinent to E-Government Act compliance related to this proposed rule, please contact Mrs. Celeste Sickles, APHIS' Information Collection Coordinator, at (301) 851-2908.

List of Subjects in 9 CFR Part 94

Animal diseases, Imports, Livestock, Meat and meat products, Milk, Poultry and poultry products, Reporting and recordkeeping requirements.

Accordingly, we propose to amend 9 CFR part 94 as follows:

PART 94-RINDERPEST, FOOT-AND-MOUTH DISEASE, NEWCASTLE DISEASE, HIGHLY PATHOGENIC AVIAN INFLUENZA, AFRICAN SWINE FEVER, CLASSICAL SWINE FEVER, SWINE VESICULAR DISEASE, AND BOVINE SPONGIFORM ENCEPHALOPATHY: PROHIBITED AND RESTRICTED IMPORTATIONS

1. The authority citation for part 94 continues to read as follows:

Authority: 7 U.S.C. 450, 7701-7772, 7781-7786, and 8301-8317; 21 U.S.C. 136 and 136a; 31 U.S.C. 9701; 7 CFR 2.22, 2.80, and 371.4.

§ 94.1 [Amended]

2. Section 94.1 is amended as follows:

a. In paragraph (b)(4), by removing the words “from Uruguay”.

b. In paragraph (d), introductory text, by removing the words “from Uruguay”.

3. Section 94.22 is revised to read as follows:

§ 94.22 Restrictions on importation of fresh (chilled or frozen) beef from Brazil and fresh beef and ovine meat from Uruguay.

Notwithstanding any other provisions of this part, fresh (chilled or frozen) beef from a region in Brazil composed of the States of Bahia, Distrito Federal, Espírito Santo, Goiás, Mato Grosso, Mato Grosso do Sul, Minas Gerais, Paraná, Rio Grande do Sul, Rio de Janeiro, Rondônia, São Paulo, Sergipe, and Tocantins, and fresh (chilled or frozen) beef and ovine meat from Uruguay may be exported to the United States under the following conditions:

(a) The meat is beef or ovine meat from animals that have been born, raised, and slaughtered in the exporting region of Brazil or in Uruguay.

(b) Foot-and-mouth disease has not been diagnosed in the exporting region of Brazil or in Uruguay within the previous 12 months.

(c) The meat comes from bovines or sheep that originated from premises where foot-and-mouth disease has not been present during the lifetime of any bovines and sheep slaughtered for the export of beef and ovine meat to the United States.

(d) The meat comes from bovines or sheep that were moved directly from the premises of origin to the slaughtering establishment without any contact with other animals.

(e) The meat comes from bovines or sheep that received ante-mortem and post-mortem veterinary inspections, paying particular attention to the head and feet, at the slaughtering establishment, with no evidence found of vesicular disease.

(f) The meat consists only of bovine parts or ovine parts that are, by standard practice, part of the animal's carcass that is placed in a chiller for maturation after slaughter. The bovine and ovine parts that may not be imported include all parts of the head, feet, hump, hooves, and internal organs.

(g) All bone and visually identifiable blood clots and lymphoid tissue have been removed from the meat.

(h) The meat has not been in contact with meat from regions other than those listed under § 94.1(a).

(i) The meat comes from carcasses that were allowed to maturate at 40 to 50 °F (4 to 10 °C) for a minimum of 24 hours after slaughter and that reached a pH below 6.0 in the loin muscle at the end of the maturation period. Measurements for pH must be taken at the middle of both longissimus dorsi muscles. Any carcass in which the pH does not reach less than 6.0 may be allowed to maturate an additional 24 hours and be retested, and, if the carcass still has not reached a pH of less than 6.0 after 48 hours, the meat from the carcass may not be exported to the United States.

(j) An authorized veterinary official of the government of the exporting region certifies on the foreign meat inspection certificate that the above conditions have been met.

(k) The establishment in which the bovines and sheep are slaughtered allows periodic on-site evaluation and subsequent inspection of its facilities, records, and operations by an APHIS representative.

Done in Washington, DC, this 13th day of December 2013.
Edward Avalos,
Under Secretary for Marketing and Regulatory Programs.

[FR Doc. 2013-30464 Filed 12-18-13; 8:45 am]

BILLING CODE 3410-34-P